DEPARTMENT OF ENERGY

Federal Energy Regulatory Commission

[Project No. 2210-155]

Appalachian Power Company; Notice of Application for Amendment of License and Soliciting Comments, Motions To Intervene, and Protests

September 27, 2007.

Take notice that the following hydroelectric application has been filed with the Commission and is available for public inspection:

a. Type of Application: Amendment of license for variance of minimum flow release.

b. Project No.: 2210-155.

c. Date Filed: September 24, 2007.

d. Applicant: Appalachian Power Company.

e. Name of Project: Smith Mountain Pumped Storage Hydroelectric Project.

f. Location: On the Roanoke River, in Bedford, Campbell, Franklin, Pittsylvania, and Roanoke Counties, Virginia.

g. Filed Pursuant to: Federal Power Act, 16 U.S.C. 791a-825r.

h. Applicant Contact: Teresa P. Rogers, Environmental and Regulatory Affairs Supervisor, Appalachian Power Company, P.O. Box No. 2021, Roanoke, VA 24022, (703) 985-2348.

i. FERC Contact: CarLisa Linton-Peters, Telephone (202) 502-8416; e-mail: carlisa.linton-peters@ferc.gov.

j. Deadline for filing comments, motions to intervene and protests: October 29, 2007.

Please include the project number (P-2210) on any comments or motions filed. All documents (an original and eight copies) should be filed with: Kimberly D. Bose, Secretary, Federal Energy Regulatory Commission, 888 First Street, NE., Washington, DC 20426.

Comments, protests, and interventions may be filed electronically via the Internet in lieu of paper filings, see 18 CFR 385.2001 (a)(1)(iii) and the instructions on the Commission's Web site under the “e-filing” link. The Commission strongly encourages electronic filings. The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency. A copy of any motion to intervene must also be served upon each representative of the Applicant specified in the particular application.

k. Description of Request: Appalachian Power Company (licensee) is requesting modifications to and a continuance of its current 45-day temporary variance of the minimum flow release requirement under license article 29 for the Smith Mountain Pumped Storage Hydroelectric Project. Because of persistent drought conditions in the general project area and the need to conserve water, Appalachian Power Company, after consultation with state resource agencies, requests that it be allowed to continue a temporary variance under several modifying conditions (see licensee's request filed September 24, 2007), until Smith Mountain Lake returns to an adjusted elevation of 794.0 feet.

Concurrent with this notice, the Commission granted the licensee's requests (see Order Granting Temporary Amendment of Minimum Flow Requirement per Article 29, Project No. 2210-155), but reserved authority to require changes to project operation based upon comments received from this notice.

l. Location of the Application: The filing is available for inspection and reproduction at the Commission's Public Reference Room, located at 888 First Street, NE., Room 2A, Washington, DC 20426, or by calling (202) 502-8371, or by calling (202) 502-8371. This filing may also be viewed on the Commission's Web site at http://ferc.gov using the “eLibrary” link. Enter the docket number excluding the last three digits in the docket number field to access the document. You may also register online at http://www.ferc.gov/docsfiling/esubscription.asp to be notified via e-mail of new filings and issuances related to this or other pending projects. For assistance, call 1-866-208-3676 or email ferconlinesupport@ferc.gov, for TTY, call (202) 502-8659. A copy is also available for inspection and reproduction at the address listed in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, 385.211, and 385.214. In determining the appropriate action to take, the Commission will consider all protests or other comments filed, but only those who file a motion to intervene in accordance with the Commission's Rules may become a party to the proceeding. Any comments, protests, or motions to intervene must be received on or before the specified comment date for the particular application (see item (j) above).

o. Any filing must bear in all capital letters the title “COMMENTS”, “PROTEST”, or “MOTION TO INTERVENE”, as applicable, and the Project Number of the particular application to which the filing refers.

p. Agency Comments: Federal, State, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper filings. See, 18 CFR 385.2001(a)(1)(iii) and the instructions on the Commission's Web site at http://www.ferc.gov under the “e-Filing” link.

Kimberly D. Bose,
Secretary.

[FR Doc. E7-19590 Filed 10-3-07; 8:45 am]

BILLING CODE 6717-01-P